DEPARTMENT OF ENERGY

Federal Energy Regulatory Commission

[Docket No. EL02-125-000]

KeySpan Energy Development Corporation, KeySpan-Ravenswood, LLC, New York Power Authority, Electric Power Supply Association and Independent Power Producers of New York, Inc., Complainants v. New York Independent System Operator, Inc., Respondent; Notice of Complaint

August 30, 2002.

Take notice that on August 28, 2002, KeySpan Energy Development Corporation, KeySpan-Ravenswood, LLC, the New York Power Authority, Electric Power Supply Association and Independent Power Producers of New York, Inc. filed a Complaint against the New York Independent System Operator, Inc. (NYISO) requesting that the Federal Energy Regulatory Commission direct the NYISO to (1) prepare a revised Cost Allocation Report for the Class of 2001 that complies with the NYISO Open Access Transmission Tariff with revised allocations of the cost of system upgrade facilities and (2) prepare cost allocation reports for succeeding years in compliance with the Commission's decision in this proceeding.

Any person desiring to be heard or to protest this filing should file with the Federal Energy Regulatory Commission, 888 First Street, NE., Washington, DC. 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before September 17, 2002. This filing is available for review at the Commission in the Public Reference Room or may be viewed on the Commission's Web site at http://www.ferc.gov using the “FERRIS” link. Enter the docket number excluding the last three digits in the docket number field to access the document. For Assistance, call (202) 502-8222 or for TTY, (202) 208-1659. The answer to the complaint, comments, protests and interventions may be filed electronically via the Internet in lieu of paper; see 18 CFR 385.2001(a)(1)(iii) and the instructions on the Commission's Web site under the “e-Filing” link. The Commission strongly encourages electronic filings.

Magalie R. Salas,
Secretary.

[FR Doc. 02-22708 Filed 9-5-02; 8:45 am]

BILLING CODE 6717-01-P